DEPARTMENT OF COMMERCE

National Oceanic and Atmospheric Administration

RIN 0648-XA896

Fisheries of the South Atlantic; South Atlantic Fishery Management Council; Public Meeting

AGENCY: National Marine Fisheries Service (NMFS), National Oceanic and Atmospheric Administration (NOAA), Commerce.

ACTION: Meeting of the South Atlantic Fishery Management Council's (Council) Golden Crab Advisory Panel (AP).

SUMMARY: The South Atlantic Fishery Management Council will hold a meeting of its Golden Crab AP in Ft. Lauderdale, FL.

DATES: The meeting will take place January 29, 2012. See SUPPLEMENTARY INFORMATION for specific times.

ADDRESSES: The meeting will be held at the Harbor Beach Marriott, 3030 Holiday Drive, Ft. Lauderdale, FL 33316; telephone: (954) 525-4000.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: Members of the Golden Crab AP will meet from 1 p.m.-5 p.m. on Sunday, January 29, 2012.

The Golden Crab AP will receive an overview of draft Amendment 6 to the Golden Crab Fishery Management Plan for the South Atlantic Region. The amendment includes management alternatives for establishing a catch share program for the commercial fishery. The AP will discuss alternatives in the amendment, including options for allowing new entrants into the fishery under the catch share program, and provide recommendations for Council consideration.

Special Accommodations

The meeting is physically accessible to people with disabilities. Requests for auxiliary aids should be directed to the Council office (see ADDRESSES) 3 days prior to the meeting.

Note: The times and sequence specified in this agenda are subject to change.

Dated: December 21, 2011.
Tracey L. Thompson,
Acting Director, Office of Sustainable Fisheries, National Marine Fisheries Service.

[FR Doc. 2011-33158 Filed 12-27-11; 8:45 am]

BILLING CODE 3510-22-P